DEPARTMENT OF THE INTERIOR

National Park Service

National Register of Historic Places; Notification of Pending Nominations and Related Actions

Nominations for the following properties being considered for listing or related actions in the National Register were received by the National Park Service before August 9, 2008. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 9, 2008.

J. Paul Loether,
Chief, National Register of Historic Places/National Historic Landmarks Program.

ALASKA

Kenai Peninsula Borough-Census Area

Soldotna Post Office, Corner of E. Corral St. and Kenai Spur Hwy, Soldotna, 08000904

GEORGIA

De Kalb County

Bond Family House, 1226 Rock Chapel Rd., Lithonia, 08000909

IDAHO

Ada County

Mountain States Telephone and Telegraph Company Building, 815 N. Main St., Meridian, 08000905

INDIANA

Adams County

Adams County Courthouse, 112 S. Second St., Decatur, 08000914

Daviess County

Daviess County Courthouse, 200 E. Walnut St., Washington, 08000916

Delaware County

Mount Zion Methodist Episcopal Church, 1701 West Eaton-Wheeling Pike, Eaton, 08000915

Greene County

Greene County Courthouse, Main and Washington Sts., Bloomfield, 08000912

Hamilton County

Wilson, Robert L., House, 273 S. 8th St., Noblesville, 08000918

Howard County

Lake Erie and Western Depot Historic District, Generally bounded by W. Jefferson St. on the N., N. Main St. on the E., W. Jackson St. on the S., N. Washington on W., Kokomo, 08000917

Pike County

Pike County Courthouse, 801 Main St., Petersburg, 08000913

MASSACHUSETTS

Essex County

Joseph Fenno House—Woman's Friend Society, 12-14 Hawthorne Blvd., Salem, 08000906

NEW YORK

Clinton County

Strand Theater, 25 Brinkerhoff St., Plattsburgh, 08000922

Columbia County

Hudson Almshouse, 400 State St., at the head of 4th St., Hudson, 08000921

Lewis County

Lowville Masonic Temple, 7552 S. State St., Lowville, 08000919

Wayne County

Roe Cobblestone Schoolhouse, (Cobblestone Architecture of New York State MPS) 12397 Van Vleck Rd., Butler, 08000920

NORTH DAKOTA

Hettinger County

Stern, John and Fredricka (Roth), Homestead, 2 mi. E. of Mott on ND 21, Mott, 08000902

Pembina County

Gunlogson Farmstead Historic Site, Icelandic State Park, 13571 Hwy 5, Cavalier, 08000900

OHIO

Lucas County

S.S. COL. JAMES M. SCHOONMAKER (bulk freighter), International Park, 26 Main St., Toledo, 08000908

OKLAHOMA

Jackson County

Jackson County Courthouse and Jail (Boundary Increase), (County Courthouses of Oklahoma TR) 101 N. Main, Altus, 08000901

RHODE ISLAND

Bristol County

Jackson, Benjamin Aborn, House, 115 Nayatt Rd., Barrington, 08000903

VIRGINIA

Arlington County

Glencarlyn Historic District, (Historic Residential Suburbs in the United States, 1830-1960 MPS) Bounded by S. Carlin Springs Rd., Arlington Blvd., 5th Rd. S., Glencarlyn Park, Arlington, 08000910

Culpeper County

Clifton, 7091 Monumental Mills Rd., Rixeyville, 08000911

Fauquier County

Cromwell's Run Rural Historic District, Along Atoka Rd., roughly bounded on the W. by Goose Creek, on the N. by U.S. Rt. 50, on the E. by Cromwell's Run, Rectortown, 08000907

Request for REMOVAL has been made for the following resources:

SOUTH DAKOTA

Lyman County

1st St. and Lichtenstien Ave., Oacoma, 80003728

[FR Doc. E8-19601 Filed 8-22-08; 8:45 am]

BILLING CODE 4312-51-P